ENVIRONMENTAL PROTECTION AGENCY

[FRL-7255-6]

Agency Information Collection Activities: Submission for OMB Review; Comment Request; Disinfectants/Disinfection Byproducts, Chemical and Radionuclides Rules: Lead and Copper Rule Amendment

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Disinfectants/Disinfection Byproducts, Chemical and Radionuclides Rules: Lead and Copper Rule Amendment, EPA ICR No. 1896.04, OMB Control No. 2040-0204. This ICR amendment will add the updated burden and costs for the Lead & Copper Rule (LCR) ICR, which expires September 30, 2002, to the Disinfectants/Disinfection Byproducts, Chemical and Radionuclides Rules ICR. The ICR amendment describes the nature of the information collection and its expected burden and cost; where appropriate, it includes the actual data collection instrument.

DATES: Comments must be submitted on or before September 4, 2002.

ADDRESSES: Send comments, referencing EPA ICR No 1896.04 and OMB Control No. 2040-0204, to the following addresses: Susan Auby, U.S. Environmental Protection Agency, Collection Strategies Division (Mail Code 2822T), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-mail at auby.susan@epamail.epa.gov, or download off the Internet at http://www.epa.gov/icr and refer to EPA ICR No. 1896.04. For technical questions about the ICR contact Lisa Christ at (202)564-8354, fax (202) 564-3755, e-mail:christ.lisa@epa.gov.

SUPPLEMENTARY INFORMATION: Title: Disinfectants/Disinfection Byproducts, Chemical and Radionuclides Rules: Lead and Copper Rule Amendment, EPA ICR No. 1896.04, OMB Control No. 2040-0204. This amendment will update burden and costs associated with the LCR and move the burden from the National Primary Drinking Water Regulations for Lead and Copper; Final Rule, EPA No. 1912.01, OMB Control No. 2040-0210, which expires September 2002, to the Disinfectants/Disinfection Byproducts, Chemical and Radionuclides Rules ICR, EPA ICR No. 1896.03, OMB Control No. 2040-0204. The Disinfectants/Disinfection Byproducts, Chemical, and Radionuclides Rules ICR is the result of a consolidation of activities covered in the 1998 Stage 1 Disenfenfectants/Disinfection Byproduct Rule (DBPR) ICR, some rules and activities covered in the 1993 Public Water Systems Supervision (PWSS) program ICR and activities and rules previously covered in other Office of Ground Water and Drinking Water (OGWDW) standalone ICRs. As part of the consolidation effort, the Disinfectants/Disinfection, Chemical, and Radionuclides Rules ICR will be amended to include burden and costs associated with the Lead and Copper Rule. The National Primary Drinking Water Regulations (NPDWRs) for Lead and Copper (The Lead and Copper Rule or LCR), promulgated by EPA in 1991, is a regulatory program mandated by the Safe Drinking Water Act (SDWA). The LCR's goal is to reduce the levels of lead and copper at the tap to as close to the maximum contaminant level goals of 0 parts per billion (ppb) of lead and 1.3 ppb of copper as possible. To accomplish this, the LCR requires community and non-transient non-community water systems to conduct periodic monitoring to optimize corrosion control and, under specified conditions, install source water treatment, conduct public education, and/or replace lead service lines in the distribution system.

In January 2000, EPA published the Lead and Copper Rule Minor Revisions (LCRMR) which eliminated unnecessary requirements, streamlined and reduced reporting burden, and promoted consistent national implementation. The LCRMR do not affect the lead or copper rule maximum contaminant level goals, action levels, or the basic regulatory requirements. Monitoring, reporting and recordkeeping are required at both the system and State levels under the National Primary Drinking Water Regulations (NPDWRs). EPA has chosen to require the least frequent collection that remains consistent with overall public health preservation objectives. An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on April 9, 2002 (67 FR 17070-17071), no comments were received.

Burden Statement: The annual public reporting and recordkeeping burden for this amendment to a collection of information is estimated to average 2.3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Public Water Systems and Primacy Agents.

Estimated Number of Respondents: 74,587.

Frequency of Response: Bi-weekly, monthly, quarterly, annually, semi-annually, triennially, and every nine years.

Estimated Total Annual Hour Burden: 1,780,049 hours.

Estimated Total Annualized Capital, O&M Cost Burden: $11,456,047.

Send comments on the Agency's need for this information, the accuracy of the provided burden estimates, and any suggested methods for minimizing respondent burden, including through the use of automated collection techniques to the addresses listed above. Please refer to EPA ICR No. 1896.04 and OMB Control No. 2040-0204 in any correspondence.

Dated: July 26, 2002.
Oscar Morales,
Director, Collection Strategies Division.

[FR Doc. 02-19696 Filed 8-2-02; 8:45 am]

BILLING CODE 6560-50-P